ENVIRONMENTAL PROTECTION AGENCY

[EPA R9-2019-06; FRL-10000-82-Region 9]

Notice of Proposed CERCLA Administrative Settlement Agreement and Order on Consent for Southern Avenue Industrial Area Superfund Site, South Gate, California

AGENCY: Environmental Protection Agency (“EPA”).

ACTION: Notice of settlement; request for public comment.

SUMMARY: Pursuant to the Comprehensive Environmental Response, Compensation and Liability Act (CERCLA), the Environmental Protection Agency (“EPA”) is hereby providing notice of a proposed administrative settlement agreement and order on consent (“Settlement Agreement”) with Joyce Mendell Brody, as an individual and in her capacity as the sole member and manager of 5211 Southern Avenue LLC (“Settling Party”). The Settlement Agreement is intended to resolve claims for the recovery of past and future response costs associated with EPA's ongoing efforts to remediate the hazardous substances in the soil and groundwater beneath the Southern Avenue Industrial Area Superfund Site, in South Gate, California. The Settlement Agreement includes a covenant by EPA not to sue and requires the Settling Party to reimburse EPA $134,821.

DATES: EPA will receive written comments relating to the Settlement Agreement until November 4, 2019.

ADDRESSES: The Settlement Agreement is available for public inspection at United States Environmental Protection Agency, Superfund Records Center, 75 Hawthorne Street, Room 3110, San Francisco, California 94105. Telephone 415-947-8717. Comments should be addressed to Diane Prend, Assistant Regional Counsel, Office of Regional Counsel (ORC-3-1), EPA Region IX, 75 Hawthorne Street, San Francisco, California 94105 or by email at Prend.Diane@epa.gov; and should reference the Southern Avenue Industrial Area Superfund Site, EPA R9-2019-06. EPA's response to any comments received will be available for public inspection at the same address.

FOR FURTHER INFORMATION CONTACT: Diane Prend, Assistant Regional Counsel, Office of Regional Counsel, EPA Region IX, 75 Hawthorne Street, ORC 3-1, San Francisco, California 94105; phone: (415) 972-3825; email: Prend.Diane@epa.gov.

SUPPLEMENTARY INFORMATION: The Settlement Agreement is entered into pursuant to Section 122(h)(1) of CERCLA and notice is made in accordance with Section 122(i). The Settlement Agreement is intended to resolve Settling Party's ownership liability for the Southern Avenue Industrial Area Superfund Site under Sections 106 and 107 of CERCLA. The Settlement Agreement requires the Settling Party to reimburse EPA $134,821 and includes a covenant by EPA not to sue or take administrative action against Settling Party.

Dated: September 24, 2019.
Enrique Manzanilla,
Director, Superfund and Emergency Management Division, Region 9.

[FR Doc. 2019-21689 Filed 10-3-19; 8:45 am]

BILLING CODE 6560-50-P